DEPARTMENT OF EDUCATION

Extension of the Application Deadline Date for Certain Fiscal Year 2018 Education Research and Special Education Research Grant Programs

AGENCY: Institute of Education Sciences, Department of Education.

ACTION: Notice.

SUMMARY: The Institute of Education Sciences extends, for certain prospective eligible applicants described elsewhere in this notice, the deadline date for transmittal of applications for new awards for fiscal year (FY) 2018 under the Education Research and Development Centers competition and the Research Networks Focused on Critical Problems of Policy and Practice in Special Education competition, Catalog of Federal Domestic Assistance (CFDA) numbers 84.305C and 84.324N. The Institute takes this action to allow more time for the preparation and submission of applications by prospective eligible applicants affected by Hurricanes Harvey and Irma.

The extension of the application deadline date for this competition is intended to help eligible applicants that are located in a Federally declared disaster area, as determined by the Federal Emergency Management Agency (FEMA), in Texas and Florida to compete fairly with other eligible applicants under these competitions.

DATES: Deadline for Transmittal of Applications: October 26, 2017.

FOR FURTHER INFORMATION CONTACT: For the Education Research and Development Centers competition, Corinne Alfeld at Corinne.Alfeld@ed.gov or (202) 245-8203. For the Research Networks Focused on Critical Problems of Policy and Practice in Special Education competition, Amy Sussman at Amy.Sussman@ed.gov or (202) 245-7424.

If you use a telecommunications device for the deaf (TDD) or a text telephone (TTY), call the Federal Relay Service (FRS), toll free, at 1-800-877-8339.

SUPPLEMENTARY INFORMATION: On May 30, 2017, we published in the Federal Register (82 FR 24695) a notice inviting applications (NIA) for new awards for FY 2018 for Education Research and Development Centers and Research Networks Focused on Critical Problems of Policy and Practice in Special Education. The application deadline in the NIA was September 21, 2017. We are extending the application deadline for this competition for applicants in affected areas in Texas and Florida in order to allow applicants more time to prepare and submit their applications.

Eligibility: The extension of the application deadline date in this notice applies to eligible applicants under the Education Research and Development Centers competition and the Research Networks Focused on Critical Problems of Policy and Practice in Special Education competition, CFDA numbers 84.305C and 84.324N, that are located in a Federally declared disaster area, as determined by the Federal Emergency Management Agency (FEMA) (see www.fema.gov/news/disasters.fema), in the State of Texas in the counties of Aransas, Bee, Bexar, Brazoria, Calhoun, Chambers, Dallas, Fort Bend, Galveston, Goliad, Harris, Jackson, Kleberg, Liberty, Matagorda, Nueces, Refugio, San Patricio, Tarrant, Travis, Victoria, and Wharton.

The extension of the application deadline date in this notice also applies to eligible applicants that are located in a Federally declared disaster area, as determined by the Federal Emergency Management Agency (FEMA) (see http://www.fema.gov/news/disasters.fema), in the State of Florida, which includes all counties in that State.

In accordance with the NIA, eligible applicants for these competitions have the ability and capacity to conduct scientifically valid research. Eligible applicants include, but are not limited to, nonprofit and for-profit organizations and public and private agencies and institutions, such as colleges and universities.

Note: All information in the NIA published on May 30, 2017 (82 FR 24695), for these competitions remains the same, except for the deadline date.

Program Authority: 20 U.S.C. 9501 et seq.

Accessible Format: Individuals with disabilities can obtain this document and a copy of the application package in an accessible format (e.g., braille, large print, audiotape, or compact disc) on request to either of the program contact persons listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: September 22, 2017.
Thomas Brock,
Commissioner for Education Research, Delegated the Duties of the Director of the Institute of Education Sciences.

[FR Doc. 2017-20684 Filed 9-22-17; 4:15 pm]

BILLING CODE 4000-01-P